DEPARTMENT OF THE TREASURY

United States Mint

Notification of Citizens Coinage Advisory Committee January 17, 2017, Public Meeting Pursuant to United States Code, Title 31, Section 5135(b)(8)(C), the United States Mint Announces the Citizens Coinage Advisory Committee (CCAC) Public Meeting Scheduled for January 17, 2017

Date: January 17, 2017.

Time: 1:00 p.m. to 2:00 p.m. EST.

Location: This meeting will occur via teleconference. Interested members of the public may dial in to listen to the meeting at (866) 564-9287/Access Code: 62956028.

Subject: Consideration of artists' concepts for the 2019 and 2020 Native American $1 Coins.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: Betty Birdsong, Acting United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: January 9, 2017.
David Motl,
Acting Deputy Director, United States Mint.

[FR Doc. 2017-00594 Filed 1-12-17; 8:45 am]

BILLING CODE 4810-37-P